DEPARTMENT OF COMMERCE

National Oceanic and Atmospheric Administration

RIN 0648-XE353

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that the Exempted Fishing Permit that would facilitate the harvest of Atlantic herring research set-aside quota warrants further consideration. The Exempted Fishing Permit would authorize federally permitted Atlantic herring vessels to harvest Atlantic Herring research set-aside quota without possession limit after the possession limit in herring management areas has been reduced to 2,000 lb (907.2 kg) for commercial herring vessels. It would also allow vessels to harvest Atlantic herring research set-aside quota during Area 1A and 1B seasonal closures. Vessels working with researchers for approved projects will need the Exempted Fishing Permits to harvest herring that will generate funds to pay for the research.

Regulations under the Magnuson-Stevens Fishery Conservation and Management Act require publication of this notification to provide interested parties the opportunity to comment on proposed EFPs.

DATES: Comments must be received on or before December 30, 2015.

ADDRESSES: You may submit written comments by any of the following methods:

• Email: NMFS.GAR.EFP@noaa.gov. Include in the subject line “Comments on 2016/2018 Atlantic Herring RSA EFP.”

• Mail: John K. Bullard, Regional Administrator, NMFS, NE Regional Office, 55 Great Republic Drive, Gloucester, MA 01930. Mark the outside of the envelope “Comments on 2016/2018 Atlantic Herring RSA EFP.”

• Fax: (978) 281-9135.

FOR FURTHER INFORMATION CONTACT: Daniel Luers, Fishery Management Specialist, (978) 282-8457, Daniel.Luers@noaa.gov.

SUPPLEMENTARY INFORMATION: The subject Exempted Fishing Permit (EFP) would facilitate herring research set-aside (RSA) compensation fishing in support of project(s) funded under the 2016-2018 herring RSA competition. Proposals are currently under review. One project would examine river herring portside sampling and an avoidance program while the other would investigate mixing of the Gulf of Maine-Georges Bank Atlantic herring resource with the Scotian shelf Atlantic herring resource using genetic analysis techniques. Consistent with previous herring RSA compensation fishing EFPs, vessels would be authorized to harvest herring RSA quota after a herring management area quota has been caught and the fishery is limited to a 2,000 lb (907.2 kg) herring possession limit per trip, as well as allow vessels to harvest RSA quota during the seasonal closures in Management Areas 1A and 1B from January through May and January through April, respectively. Grant recipients will be required to meet all EFP application requirements prior to the issuance of the subject EFPs.

If approved, the applicants may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: December 10, 2015.
Emily H. Menashes,
Acting Director, Office of Sustainable Fisheries, National Marine Fisheries Service.

[FR Doc. 2015-31519 Filed 12-14-15; 8:45 am]

BILLING CODE 3510-22-P